DEPARTMENT OF TRANSPORTATION

Federal Highway Administration

Notice of Final Federal Agency Actions on Proposed Kirby-Whitten Parkway (Shelby Farms Parkway) Project in Tennessee

AGENCY: Federal Highway Administration (FHWA), DOT.

ACTION: Notice of limitation on claims for judicial review of actions by FHWA and other Federal agencies.

SUMMARY: This notice announces actions taken by FHWA and other Federal agencies that are final. The actions relate to a proposed highway project, Kirby-Whitten Parkway (Shelby Farms Parkway), from Walnut Grove Road to Macon Road in Memphis, Shelby County, Tennessee. Those actions grant licenses, permits, and approvals for the project. The FHWA's Record of Decision (ROD) provides details on the Selected Alternative for the proposed improvements.

DATES: By this notice, FHWA is advising the public of final agency actions subject to 23 U.S.C. 139(l). A claim seeking judicial review of the Federal agency actions on the highway project will be barred unless the claim is filed on or before. If the Federal law May 4, 2020 that authorizes judicial review of a claim provides a time period of less than 150 days for filing such claim, then that shorter time period still applies.

FOR FURTHER INFORMATION CONTACT: For FHWA: Ms. Theresa Claxton; Program Development Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). You may also contact Ms. Susannah Kniazewycz, Environmental Division Director, Tennessee Department of Transportation, James K. Polk Building, Suite 900, 505 Deaderick Street, Nashville, Tennessee 37243-0334; Telephone (615) 741-3655, Susannah.Kniazewycz@tn.gov. The Tennessee Department of Transportation (TDOT) Environmental Division's normal business hours are 8 a.m. to 5 p.m. (Central Time).

SUPPLEMENTARY INFORMATION: Notice is hereby given that FHWA and other Federal agencies have taken final agency actions subject to 23 U.S.C. 139(l) by issuing licenses, permits, and approvals for the following highway project in the State of Tennessee: Kirby-Whitten Parkway (Shelby Farms Parkway), Project Number STP-M-9409(109), PIN 109182.00, Shelby County, Tennessee. The proposed action will extend and construct a new 2.5-mile section of the Kirby-Whitten Parkway (Shelby Farms Parkway). The Selected Alternative proposes a four- to five-lane highway with two travel lanes in each direction. The section from Walnut Grove Road to Mullins Station Road will contain a depressed median, while the section from Mullins Station Road to Macon Road will contain a center turn lane. The project includes a grade-separated interchange with Walnut Grove Road, approximately 1,900 feet east of the newly constructed Wolf River Bridge and 3,500 feet west of the existing signalized intersection of Walnut Grove Road and Farm Road. The actions by the Federal agencies, and the laws under which such actions were taken, are described in the Supplemental Final Environmental Impact Statement (SFEIS) for the project, approved on January 30, 2012, in the FHWA Record of Decision (ROD) issued on November 13, 2019, and in other documents in the FHWA project records. The SFEIS, ROD, and other documents in the FHWA project records are available by contacting FHWA or TDOT at the addresses provided above. The FHWA SFEIS and ROD can be viewed and downloaded from the project website at: https://www.tn.gov/tdot/projects/region-4/proposed-kirby-parkway.html or viewed at the TDOT Environmental Division, James K. Polk Building, Suite 900, 505 Deaderick Street, Nashville, Tennessee 37243-0334.

This notice applies to all Federal agency decisions that are final as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303]; the Land and Water Conservation Fund Act of 1965 (LWCF), as amended; Public Law 88-578; 16 U.S.C. 4601-4 et seq.).

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [54 U.S.C. 300101 et seq.].

6. Social and Economic: Civil Rights Act of 1964 [42 U.S.C. 2000(d)-2000(d)(1)]; Farmland Protection Policy Act (FPPA) [7 U.S.C. 4201-4209].

7. Hazardous Materials: Comprehensive Environmental Response, Compensation, and Liability Act (CERCLA) [42 U.S.C. 9601-9675].

8. Executive Orders: E.O. 11990 Protection of Wetlands; E.O. 11988 Floodplain Management; E.O. 13112 Invasive Species; E.O. 12898 Federal Actions to Address Environmental Justice in Minority Populations and Low-Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

(Authority: 23 U.S.C. 139(l))

Issued on: November 25, 2019.
Pamela M. Kordenbrock,
Division Administrator, Nashville, Tennessee.

[FR Doc. 2019-26180 Filed 12-5-19; 8:45 am]

BILLING CODE 4910-RY-P